DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by November 7, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number, and the agency informs potential persons who are to respond to the collection of information that such persons are not required to respond to the collection of information unless it displays a currently valid OMB control number.

Animal and Plant Health Inspection Service

Title: National Animal Health Reporting System (NAHRS).

OMB Control Number: 0579-0299.

Summary of Collection: The Animal Health Protection Act (AHPA) of 2002 is the primary Federal law governing the protection of animal health. The law gives the Secretary of Agriculture broad authority to detect, control, or eradicate pests or diseases of livestock or poultry. The Secretary may also prohibit or restrict import or export of any animal or related material if necessary to prevent the spread of any livestock or poultry pest or disease. The AHPA is contained in Title X, Subtitle E, Sections 10401-18 of Public Law 107-171, May 13, 2002, of the Farm Security and Rural Investment Act of 2002. Disease prevention is the most effective method for maintaining a healthy animal population and enhancing the U.S. Department of Agriculture's Animal and Plant Health Inspection Service (APHIS), Veterinary Services' (VS) ability to allow U.S. animal producers to compete in the world market of animal and animal product trade. In connection with this mission, APHIS operates NAHRS, which collects, on a national basis, data on the prevalence of important livestock and poultry diseases within the United States.

Need and Use of the Information: The NAHRS collects data monthly from State veterinarians on the presence or absence of specific diseases of interest to the World Organization for Animal Health (Office International des Epizooties) (OIE). As a member country of the OIE, the United States is required to submit reports on the status of certain diseases notifiable to the OIE. Reportable diseases are diseases that have the potential for rapid spread, irrespective of national borders, that are of serious socio-economic or public health consequence and that are of major importance in the international trade of animals and animal products. The potential benefits to trade as a result of the NAHRS include accurate reporting on the health status of the U.S. livestock industry, improved and expanded animal disease reporting infrastructure, expansion of livestock industries into new export markets, and preservation of existing markets through increased confidence in quality and disease freedom of U.S. livestock. This data collection is unique in terms of the type, quantity, and frequency of data; no other entity is collecting and reporting this type of data on the health status of U.S. livestock to the OIE.

Description of Respondents: State Governments, private laboratories.

Number of Respondents: 77.

Frequency of Responses: Reporting.

Total Burden Hours: 6,615.

Ruth Brown,
Departmental Information Collection Clearance Officer.

[FR Doc. 2022-21879 Filed 10-6-22; 8:45 am]

BILLING CODE 3410-34-P